ENVIRONMENTAL PROTECTION AGENCY

40 CFR Part 60

[EPA-HQ-OAR-2017-0638; FRL-9972-45-OAR]

Denial of Petition To List Concentrated Animal Feeding Operations Under Clean Air Act

AGENCY: Environmental Protection Agency (EPA).

ACTION: Notice of final action denying petition for rulemaking.

SUMMARY: The U.S. Environmental Protection Agency (EPA) is providing notice that it has responded to a petition for rulemaking titled “Petition To List Concentrated Animal Feeding Operations under Clean Air Act Section 111(b)(1)(A) of the Clean Air Act, and To Promulgate Standards of Performance Under Clean Air Act Sections 111(b)(1)(B) and 111(d).” The Administrator denied the request in a separate letter to the petitioners. The letter, which provides a full explanation of the agency's rationale for the denial, is in the docket for this action.

DATES: This action is effective on December 26, 2017.

FOR FURTHER INFORMATION CONTACT: Mrs. Allison Costa, Sector Policies and Programs Division (E143-03), Office of Air Quality Planning and Standards, Environmental Protection Agency, Research Triangle Park, North Carolina 27711; telephone number: (919) 541-1322; fax number: (919) 541-0516; email address: costa.allison@epa.gov.

SUPPLEMENTARY INFORMATION:

I. How can I get copies of this document and other related information?

This Federal Register document, the petition for rulemaking, and the letter denying the petition for rulemaking are available in the docket the EPA established under Docket ID No. EPA-HQ-OAR-2017-0638. All documents in the docket are listed on the www.regulations.gov website. Although listed in the index, some information is not publicly available, e.g., confidential business information or other information whose disclosure is restricted by statute. Certain other material, such as copyrighted material, is not placed on the internet and will be publicly available only in hard copy form. Publicly available docket materials are available either electronically through www.regulations.gov or in hard copy at the EPA Docket Center (EPA/DC), Room 3334, EPA WJC West Building, 1301 Constitution Ave. NW, Washington, DC. The Public Reading Room is open from 8:30 a.m. to 4:30 p.m., Monday through Friday, excluding legal holidays. The telephone number for the Public Reading Room is (202) 566-1744 and the telephone number for the Air Docket is (202) 566-1742.

II. Judicial Review

Section 307(b)(1) of the Clean Air Act indicates which Federal Courts of Appeals have venue for petitions for review of final EPA actions. This section provides, in part, that the petitions for review must be filed in the United States Court of Appeals for the District of Columbia Circuit if: (i) The agency action consists of “nationally applicable regulations promulgated, or final action taken, by the Administrator,” or (ii) such actions are locally or regionally applicable, if “such action is based on a determination of nationwide scope or effect and if in taking such action the Administrator finds and publishes that such action is based on such a determination.”

Any petitions for review of the letter denying the petition to list concentrated animal feeding operations as a source category described in this notice must be filed in the United States Court of Appeals for the District of Columbia Circuit by February 26, 2018.

Dated: December 18, 2017.
E. Scott Pruitt,
Administrator.

[FR Doc. 2017-27622 Filed 12-22-17; 8:45 am]

BILLING CODE 6560-50-P